DEPARTMENT OF AGRICULTURE

Agricultural Marketing Service

7 CFR Part 1032

[Docket No. AO-313-A48; DA-04-06]

Milk in the Central Marketing Area; Delay of Hearing Date

AGENCY: Agricultural Marketing Service, USDA.

ACTION: Proposed rule; notice of hearing delay.

SUMMARY: The Agricultural Marketing Service is delaying the hearing for the proposed rule that appeared in the Federal Register of September 22, 2004 (69 FR 56725), which gave notice of a public hearing being held to consider proposals that would amend certain provisions of the Central milk marketing order. The hearing was originally scheduled to begin October 18, 2004, and has been delayed until December 6, 2004.

DATES: The hearing will convene at 1 p.m. on Monday, December 6, 2004.

ADDRESSES: The hearing will be held at the Hilton Kansas City Airport, 8801 NW 112th Street, Kansas City, Missouri 64153; (816) 891-8900.

FOR FURTHER INFORMATION CONTACT: Jack Rower, Marketing Specialist, Order Formulation and Enforcement, USDA/AMS/Dairy Programs, STOP 0231—Room 2971, 1400 Independence Avenue, SW, Washington, DC 20250-0231, (202) 720-2357, e-mail address: Jack.Rower@usda.gov.

SUPPLEMENTARY INFORMATION: In the proposed rule beginning on page 56725 of the Federal Register for Wednesday, September 22, 2004, the hearing dates in the third column on page 56725 is changed in both the DATES and SUPPLEMENTARY INFORMATION sections to read as follows:

DATES: The hearing will convene at 1:00 p.m. on Monday, December 6, 2004.

SUPPLEMENTARY INFORMATION: This administrative action is governed by the provisions of sections 556 and 557 of Title 5 of the United States Code and, therefore, is excluded from the requirements of Executive Order 12866.

Notice is hereby given of a public hearing to be held at the Hilton Kansas City Airport, 8801 NW 112th Street, Kansas City, Missouri 64153; (816) 891-8900, beginning at 1 p.m., on Monday, December 6, 2004, with respect to proposed amendments to the tentative marketing agreement and to the order regulating the handling of milk in the Central milk marketing area. The hearing is being delayed to accommodate a request by industry participants for additional time to prepare for the hearing.

Authority: 7 U.S.C. 601-674.

Dated: October 13, 2004.
A.J. Yates,
Administrator, Agricultural Marketing Service.

[FR Doc. 04-23351 Filed 10-14-04; 10:17 am]

BILLING CODE 3410-02-P